DEPARTMENT OF AGRICULTURE

Agricultural Marketing Service

[TM-01-07]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are: October 15, 2001, 8:00 a.m. to 5:00 p.m.; October 16, 2001, 8:30 a.m. to 5:30 p.m.; and, October 17, 2001, 8:00 a.m. to 3:30 p.m. Requests from individuals and organizations wishing to make an oral presentation at the meeting are due by the close of business on October 5, 2001.

ADDRESSES: The meeting will take place at the U.S. Department of Agriculture, Rear of the South Building Cafeteria, 1400 Independence Ave., S.W., Washington, D.C. 20250-0200. Requests for copies of the NOSB meeting agenda and requests to make an oral presentation at the meeting may be sent to Katherine Benham at USDA-AMS-TMD-NOP, 1400 Independence Avenue, SW., Room 2945-So., Ag Stop 0268, Washington, DC 20250-0200. Requests to make an oral presentation at the meeting may also be sent electronically to Katherine Benham at katherine.benham@usda.gov.

FOR FURTHER INFORMATION CONTACT: Richard Mathews, Program Manager, National Organic Program, (202) 720-3252.

SUPPLEMENTARY INFORMATION: Section 2119 (7 U.S.C. 6518) of the Organic Foods Production Act of 1990 (OFPA), as amended (7 U.S.C. Section 6501 et seq.) requires the establishment of the NOSB. The purpose of the NOSB is to make recommendations about whether a substance should be allowed or prohibited in organic production or handling, to assist in the development of standards for substances to be used in organic production and to advise the Secretary on other aspects of the implementation of OFPA. The NOSB met for the first time in Washington, DC, in March 1992, and currently has five committees working on various aspects of the organic program. The committees are: Accreditation, Crops, Livestock, Materials, and Processing.

In August of 1994, the NOSB provided its initial recommendations for the National Organic Program (NOP) to the Secretary of Agriculture. Since that time, the NOSB has submitted 30 addenda to its recommendations and reviewed more than 196 substances for inclusion on the National List of Allowed and Prohibited Substances. The last meeting of the NOSB was held on June 6-7, 2001, in La Crosse, Wisconsin.

The Department of Agriculture (USDA) published its final National Organic Program regulation in the Federal Register on December 21, 2000 (65 FR 80548). The rule became effective April 21, 2001.

The principal purposes of the meeting are to provide an opportunity for the NOSB to: receive an update from the USDA/NOP; receive various committee reports; hear a presentation from the Environmental Protection Agency (EPA) on inert ingredients and pesticide product labeling; hear a presentation from the Foreign Agricultural Service, USDA, on trade issues; receive updates from the Aquatic Task Force Working Group and the Task Force on Outreach to Producers; review materials to determine if they should be included on the National List of Approved and Prohibited Substances; and conduct the annual election of Chairperson and Vice-Chairperson.

The Livestock Committee will present for NOSB consideration its recommendations on “access to pasture,” antibiotics in vaccines and semen, apiculture, and aquatic species. This committee will also discuss Pet Food labeling. The Materials Committee will explain the materials petition process and timelines, and the decision process for reviewing/approving a material for possible inclusion on the National List of Allowed and Prohibited Substances. The Materials Committee will report on new petitions received for the review of materials and the Technical Advisory Panel review process. Finally, the Materials Committee will present 13 materials for possible inclusion on the National List of Allowed and Prohibited Substances. The Processing Committee will discuss guidelines for determining what processing technologies are appropriate for organic handling, such as ion exchange and activated carbon filtration. The Crops Committee will present for NOSB consideration its recommendations for Mushroom and Greenhouse production standards. The Crops Committee will also discuss the status of its work on composting; compost tea and vermiculture; and heated, pathogen free manure products. Further, the Crops Committee will discuss recommendations for certification of transitional operations and the labeling of transitional products. The Accreditation Committee will present for NOSB consideration its recommendation on principles of organic production and handling. The Accreditation Committee will present for NOSB consideration its recommendations regarding exemptions of small producers, exclusion of handlers, and certification of private label products. The Accreditation Committee will also report on continued certifying agent outreach and provide an analysis of the NOP Frequently Asked Questions web page.

Materials to be reviewed at the meeting by the NOSB are as follows: for Crop Production: Monocalcium Phosphate, Calcium Chloride, Copper Sulfate; for Livestock Production: DL-Methionine (including, DL-Methionine Hydroxy Analog and Hydroxy Analog Calcium); for Processing: Ammonium Hydroxide, Cyclohexlamine, Diethylaminoethanol, Morpholine, Octadecylamine, Postassium Hydroxide, Sodium Phosphates, Cellulose, and Glycerol Monooleate.

For further information see http://www.ams.usda.gov/nop. Copies of the NOSB meeting agenda can be requested from Ms. Katherine Benham by telephone at (202) 720-3252; or by accessing the NOP website at http://www.ams.usda.gov/nop.

The meeting is open to the public. The NOSB has scheduled time for public input on Monday, October 15, 2001, from 8:00 a.m. until 10:00 a.m.; and Wednesday, October 17, from 8:00 a.m. until 10:00 a.m., at the USDA, rear of the South Building Main Cafeteria. Individuals and organizations wishing to make an oral presentation at the meeting may forward their request by facsimile to Ms. Katherine Benham at (202) 690-3924. While persons wishing to make a presentation may sign up at the door, advance registration will ensure that a person has the opportunity to speak during the allotted time period and will help the NOSB to better manage the meeting and to accomplish its agenda. Individuals or organizations will be given approximately 5 minutes to present their views. All persons making an oral presentation are requested to provide their comments in writing. Written submissions may contain information other than that presented at the oral presentation. Written comments may be submitted to Ms. Benham at the above address prior to or after the meeting. Written comments may also be submitted at the meeting.

Dated: September 17, 2001.
Kenneth C. Clayton,
Acting Administrator, Agricultural Marketing Service.

[FR Doc. 01-23649 Filed 9-20-01; 8:45 am]

BILLING CODE 3410-02-P